DEPARTMENT OF TRANSPORTATION

Federal Aviation Administration

Notice of Intent To Rule on Request To Release Airport Property at the Billings Logan International Airport, Billings, MT

AGENCY: Federal Aviation Administration (FAA), DOT.

ACTION: Notice of Request To Release Airport Property.

SUMMARY: The FAA proposes to rule and invites public comment on the release of land at the Billings Logan International Airport under the provisions of 49 U.S.C. 47107(h)(2).

DATES: Comments must be received on or before July 2, 2008.

ADDRESSES: Comments on this application may be mailed or delivered to the FAA at the following address:

Mr. David S. Stelling, Manager,

Federal Aviation Administration,

Northwest Mountain Region, Airports Division,

Helena Airports District Office,

FAA Building, Suite 2,

2725 Skyway Drive,

Helena, MT 59602-1213.

In addition, one copy of any comments submitted to the FAA must be mailed or delivered to Donald Kim Annin, C.M., Manager of Construction Engineering and Facilities Planning, at the following address:

Billings Logan International Airport,

1901 Terminal Circle, Room 216,

Billings, Montana 59015.

FOR FURTHER INFORMATION CONTACT:

Mr. John Styba, Project Manager,

Federal Aviation Administration,

Northwest Mountain Region,

Helena Airports District Office,

FAA Building, Suite 2,

2725 Skyway Drive,

Helena, MT 59602-1213.

The request to release property may be reviewed, by appointment, in person at this same location.

SUPPLEMENTARY INFORMATION: The FAA invites public comment on the request to release property at the Billings Logan International Airport under the provisions of 49 U.S.C. 47107(h)(2).

On May 14, 2008, the FAA determined that the request to release property at Billings Logan International Airport submitted by the airport meets the procedural requirements of the Federal Aviation Administration and the release of the property does not and will not impact future aviation needs at the airport. The FAA may approve the request, in whole or in part, no later than July 2, 2008.

The following is a brief overview of the request:

Billings Logan International Airport is proposing the release of approximately 8.63 acres of airport property defined as follows:

Parcel 6-3.10 acres. C.O.S. 1805.

Tract 2-2.72 acres. C.O.S. 2334 TR. 2.

Tract 1A-.32 acres. C.O.S. 678 TR 1.

Parcel 2B-.17 acres. Black Otter Sub. C.O.S. 1434.

Parcel 2A-2.32 acres. Black Otter Sub.

The land requested by the Montana Department of Transportation (MDOT) will be used as Right of Way for the MDOT's Airport Road project which will replace the existing two-lane roadway with a four-lane roadway from the intersection of State Secondary Highway 318 and Main Street in the Billings Heights to the airport entrance intersection at 27th Street. The project also includes the construction of two new intersections: At Alkali Creek and State Secondary Highway 318 and the intersection at North 27th and Highway 3. This project will enhance the route for large truck traffic for the “Camino Real,” a north-south trade route connecting Canada, the U.S. and Mexico via 1-25, 1-90, 1-15, U.S. 87 and MT 3 which runs adjacent to the airport's southern property line, subsequently increasing the capacity of the vehicle traffic coming to the airport and the safety of those using the airport's entrance.

The transfer of land is necessary to comply with Federal Aviation Administration Grant Assurances that do not allow federally acquired airport property to be used for non-aviation purposes. The property is being exchanged in-kind for monetary consideration equivalent to the appraised value of similar property in the area of the airport. All costs associated with the exchange will be borne by the Montana Department of Transportation (MDOT).

Any person may inspect, by appointment, the request in person at the FAA office listed above under FOR FURTHER INFORMATION CONTACT.

In addition, any person may, upon appointment and request, inspect the application, notice and other documents germane to the application in person at the Billings Logan International Airport.

Issued in Helena, Montana on May 15, 2008.
Gary M. Gates,
Acting Manager, Helena Airports District Office.

[FR Doc. E8-12027 Filed 5-30-08; 8:45 am]

BILLING CODE 4910-13-M